DEPARTMENT OF TRANSPORTATION

Surface Transportation Board

[STB Docket Nos. AB-33 (Sub-No. 158X) and AB-406 (Sub-No. 12X]

Union Pacific Railroad Company—Abandonment Exemption—in McPherson, Ellsworth and Rice Counties, KS and Central Kansas Railway Limited Liability Company—Discontinuance of Service Exemption—in McPherson, Ellsworth and Rice Counties, KS

On October 24, 2000, Union Pacific Railroad Company (UP) and Central Kansas Railway Limited Liability Company (CKR) jointly filed with the Surface Transportation Board (Board) a petition under 49 U.S.C. 10502 for exemption from the provisions of 49 U.S.C. 10903 for UP to abandon and for CKR to discontinue service over a rail line: (1) Between milepost 523.02, near Geneseo and milepost 495.80, near Lindsborg; and (2) between milepost 531.40 and milepost 530.60, near Lindsborg, a total distance of 28.02 miles in McPherson, Ellsworth and Rice Counties, KS. The line traverses U.S. Postal Service Zip Codes 67444, 67456, and 67464, and includes the non-agency stations of Lindsborg (mileposts 495.80 and 531.0), Marquette (milepost 505.60), Crawford (milepost 518.20), and Geneseo (milepost 524.50).

The line does not contain federally granted rights-of-way. Any documentation in petitioners' possession will be made available promptly to those requesting it.

The interest of railroad employees will be protected by the conditions set forth in Oregon Short Line R. Co.—Abandonment—Goshen, 360 I.C.C. 91 (1979).

By issuance of this notice, the Board is instituting an exemption proceeding pursuant to 49 U.S.C. 10502(b). A final decision will be issued by February 9, 2001.

Any offer of financial assistance (OFA) under 49 CFR 1152.27(b)(2) will be due no later than 10 days after service of a decision granting the petition for exemption. Each offer must be accompanied by a $1,000 filing fee. See 49 CFR 1002.2(f)(25).

All interested persons should be aware that, following abandonment of rail service and salvage of the line, the line may be suitable for other public use, including interim trail use. Any request for a public use condition under 49 CFR 1152.28 or for trail use/rail banking under 49 CFR 1152.29 will be due no later than December 4, 2000. Each trail use request must be accompanied by a $150 filing fee. See 49 CFR 1002.2(f)(27).

All filings in response to this notice must refer to STB Docket No. AB-33 (Sub-No. 158X) and STB Docket No. AB-406 (Sub-No. 12X) and must be sent to: (1) Surface Transportation Board, Office of the Secretary, Case Control Unit, 1925 K Street, NW., Washington, DC 20423-0001; (2) James P. Gatlin, 1416 Dodge Street #830, Omaha, NE 68179; and (3) Karl Morell, 1455 F St., NW., Suite 225, Washington, DC 20005. Replies to the petition are due on or before December 4, 2000.

Persons seeking further information concerning abandonment procedures may contact the Board's Office of Public Services at (202) 565-1592 or refer to the full abandonment or discontinuance regulations at 49 CFR part 1152. Questions concerning environmental issues may be directed to the Board's Section of Environmental Analysis (SEA) at (202) 565-1545. [TDD for the hearing impaired is available at 1-800-877-8339.]

An environmental assessment (EA) (or environmental impact statement (EIS), if necessary) prepared by SEA will be served upon all parties of record and upon any agencies or other persons who commented during its preparation. Other interested persons may contact SEA to obtain a copy of the EA (or EIS). EAs in these abandonment proceedings normally will be made available within 60 days of the filing of the petition. The deadline for submission of comments on the EA will generally be within 30 days of its service.

Board decisions and notices are available on our website at “WWW.STB.DOT.GOV.”

Decided: November 6, 2000.
By the Board, David M. Konschnik, Director, Office of Proceedings.
Vernon A. Williams,
Secretary.

[FR Doc. 00-28987 Filed 11-9-00; 8:45 am]

BILLING CODE 4915-00-P